DEPARTMENT OF DEFENSE

Office of the Secretary

Renewal of Department of Defense Federal Advisory Committees

AGENCY: DoD.

ACTION: Renewal of Federal Advisory Committee.

SUMMARY: Under the provisions of section 724 of the National Defense Authorization Act for Fiscal Year 2010 (Pub. L. 111-84), the Federal Advisory Committee Act of 1972 (5 U.S.C. Appendix), the Government in the Sunshine Act of 1976 (5 U.S.C. 552b), and 41 CFR 102-3.50(a), the Department of Defense gives notice that it is renewing the charter for the Department of Defense Task Force on the Care, Management, and Transition of Recovering Wounded, Ill, and Injured Members of the Armed Forces (hereafter referred to as “the Task Force”).

The Task Force is a non-discretionary federal advisory committee that shall (a) assess the effectiveness of the policies and programs developed and implemented by the Department of Defense (DoD), and by each of the Military Departments, to assist and support the care, management, and transition of recovering wounded, ill, and injured members of the Armed Forces; and (b) make recommendations for the continuous improvements of such policies and programs.

Pursuant to section 724(c) of Public Law 111-84, the Task Force shall, no later than 12 months after the date on which all Task Force members have been appointed and each year thereafter for the life of the Task Force, submit an annual report to the Secretary of Defense on the activities of the Task Force and on the activities of the DoD, to include the Military Departments, to assist and support the care, management, and transition of recovering wounded, ill, and injured members of the Armed Forces.

At a minimum, the Task Force's report shall include the following:

a. The Task Force's findings and conclusions as a result of its assessment of the effectiveness of developed and implemented DoD policies and programs, to include those of the Military Departments, to assist and support the care, management and transition of recovering wounded, ill, and injured members of the Armed Forces.

b. A description of best practices and various ways in which the DoD, to include the Military Departments, could more effectively address matters relating to the care, management, and transition of recovering wounded, ill, and injured members of the Armed Forces, including members of both the Regular and the Reserve Components, and support for their families.

c. A plan listing and describing the Task Force's activities for the upcoming year covered by its annual report.

d. Such recommendations for other legislative or administrative action as the Task Force considers appropriate for measures to improve DoD-wide policies and programs in (a) above.

The Task Force, for the purpose of its reports, shall fully comply with sections 724(c)(2) and (3) of Public Law 111-84 in all matters dealing with the report's methodology and matters to be reviewed and assessed.

No later than 90 days after receiving the Task Force's annual report, the Secretary of Defense shall submit to the Committees on Armed Services of the Senate and the House of Representatives the report and the Secretary's evaluation of the report.

No later than six months after receiving the Task Force's annual report, the Secretary of Defense, in consultation with the Secretaries of the Military departments, shall submit to the Committees on Armed Services of the Senate and the House of Representatives a plan to implement the recommendations of the Task Force's annual report.

Pursuant to section 724(c) of Public Law 111-84, the Task Force reports its independent findings, advice, and recommendations to the Secretary of Defense.

Pursuant to section 724(a)(3) of Public Law 111-84, the Secretary of Defense shall ensure that the Task Force's work is independent of the Senior Oversight Committee, as defined by section 726(c) of the Duncan Hunter National Defense Authorization Act for Fiscal Year 2009 (Pub. L. 110-417).

The Under Secretary of Defense (Personnel and Readiness) shall oversee the Task Force. The Director of Administration and Management, through the Washington Headquarters Services, shall provide support as deemed necessary for the performance of the Task Force's functions, and the Designated Federal Officer (DFO) shall ensure compliance with the requirements of FACA, the Government in the Sunshine Act of 1976 (5 U.S.C. 552b) (hereinafter referred to as “the Government in the Sunshine Act”), governing Federal statutes and regulations, and established DoD policies/procedures.

The Task Force, pursuant to section 724(b) of Public Law 111-84, shall be comprised of not more than 14 members appointed by the Secretary of Defense with annual renewals.

Pursuant to section 724(b)(2) of Public Law 111-84, the Secretary of Defense shall appoint the following:

a. At least one member of each of the Regular Components of the Army, the Navy, the Air Force, and the Marine Corps;

b. One member of the National Guard;

c. One member of the Reserve Component of the Armed Forces other than the National Guard; and

d. A number of persons from outside the DoD equal to the total number of personnel from within the DoD (whether members of the Armed Forces or civilian personnel) who are appointed to the Task Force.

Pursuant to sections 724(b)(2) through (4) of Public Law 111-84, the Secretary of Defense shall appoint persons meeting the following requirements:

a. At least one individual appointed to the Task Force from within the DoD shall be the Surgeon General of an Armed Force.

b. At least one family member of a wounded, ill, or injured member of the Armed Forces or veteran who has experience working with wounded, ill, and injured members of the Armed Forces or their families.

c. The individuals appointed to the Task Force from outside the DoD—

i. With the concurrence of the Secretary of Veterans Affairs, shall include an officer or employee of the Department of Veterans Affairs; and

ii. May include individuals from other departments or agencies of the Federal Government, from State and local agencies, or from the private sector.

d. Persons appointed to the Task Force shall have experience in—

i. Medical care and coordination for wounded, ill, and injured members of the Armed Forces;

ii. Medical case management;

iii. Non-medical case management;

iv. The disability evaluation process for members of the Armed Forces;

v. Veterans benefits;

vi. Treatment of traumatic brain injury and post-traumatic stress disorder;

vii. Family support;

viii. Medical research;

ix. Vocational rehabilitation; or

x. Disability benefits.

There shall be two co-chairs of the Task Force. One of the co-chairs shall be designated by the Secretary of Defense at the time of appointment from among the individuals appointed to the Task Force from within the DoD. The other co-chair shall be selected from among the individuals appointed from outside the DoD by those individuals.

Pursuant to section 724(e)(1) of Public Law 111-84, Task Force members who are members of the Armed Forces or civilian officers or employees of the United States shall serve on the Task Force without compensation (other than compensation to which entitled as a member of the Armed Forces or an officer or employee of the United States, as the case may be).

Under the provisions of section 724(e)(1) of Public Law 111-84, Task Force members, who are not full-time or permanent part-time federal officers or employees, shall be appointed by the Secretary of Defense in accordance with, and subject to, the provisions of 5 U.S.C. 3161 and shall serve as special government employees and authorized to receive compensation.

All Task Force Members shall be renewed on an annual basis. The members shall also receive travel and per diem when traveling on official Task Force business.

Each Task Force member is appointed to provide advice on behalf of the government on the basis of his or her best judgment without representing any particular point of view and in a manner that is free from conflict of interest.

The Department, when necessary and consistent with the Task Force's mission and DoD policies/procedures, may establish subcommittees to support the Task Force. Establishment of subcommittees will be based upon a written determination, to include terms of reference, by the Secretary of Defense, the Deputy Secretary of Defense, or the Task Force's sponsor.

These Subcommittees shall not work independently of the chartered Task Force, and shall report all of their recommendations and advice solely to the Task Force for full deliberation and discussion. Subcommittees have no authority to make decisions and recommendations, verbally or in writing, on behalf of the chartered Task Force; nor can any Subcommittee or its members update or report directly to the DoD or any Federal officers or employees.

The Secretary of Defense shall appoint Subcommittee members even if the member in question is already a Task Force member with annual renewals.

Subcommittee members that are full-time or permanent part-time Federal officers or employees shall be appointed to serve as regular government employee members. Subcommittee members, if not full-time or permanent part-time government employees, shall be appointed to serve as experts and consultants under the authority of 5 U.S.C. 3109, and shall serve as special government employees, whose appointments must be renewed by the Secretary of Defense on an annual basis. With the exception of travel and per diem for official Task Force-related travel, Subcommittee members shall serve without compensation.

Each Subcommittee member is appointed to provide advice on behalf of the government on the basis of his or her best judgment without representing any particular point of view and in a manner that is free from conflict of interest.

All Subcommittees operate under the provisions of FACA, the Government in the Sunshine Act, governing Federal statutes and regulations, and governing DoD policies/procedures.

FOR FURTHER INFORMATION CONTACT: Marcia Moore, Deputy Advisory Committee Management Officer for the Department of Defense, 703-571-7057.

SUPPLEMENTARY INFORMATION: The Task Force shall meet at the call of the Task Force's Designated Federal Officer, in consultation with the Task Force co-chairs. The estimated number of Task Force meetings is five per year.

In addition, the Designated Federal Officer is required to be in attendance at all Task Force and subcommittee meetings for the entire duration of each and every meeting; however, in the absence of the Designated Federal Officer, a properly approved Alternate Designated Federal Officer shall attend the entire duration of the Task Force or subcommittee meeting.

The Designated Federal Officer, or the Alternate Designated Federal Officer, shall call all of the Task Force's and subcommittees' meetings; prepare and approve all meeting agendas; adjourn any meeting when the Designated Federal Officer, or the Alternate Designated Federal Officer, determines adjournment to be in the public interest or required by governing regulations or DoD policies/procedures; and chair meetings when directed to do so by the official to whom the Task Force reports.

Pursuant to 41 CFR 102-3.105(j) and 102-3.140, the public or interested organizations may submit written statements to Department of Defense Task Force on the Care, Management, and Transition of Recovering Wounded, Ill, and Injured Members of the Armed Forces membership about the Task Force's mission and functions. Written statements may be submitted at any time or in response to the stated agenda of planned meeting of Department of Defense Task Force on the Care, Management, and Transition of Recovering Wounded, Ill, and Injured Members of the Armed Forces.

All written statements shall be submitted to the Designated Federal Officer for the Department of Defense Task Force on the Care, Management, and Transition of Recovering Wounded, Ill, and Injured Members of the Armed Forces, and this individual will ensure that the written statements are provided to the membership for their consideration. Contact information for the Department of Defense Task Force on the Care, Management, and Transition of Recovering Wounded, Ill, and Injured Members of the Armed Force's Designated Federal Officer can be obtained from the GSA's FACA Database— https://www.fido.gov/facadatabase/public.asp.

The Designated Federal Officer, pursuant to 41 CFR 102-3.150, will announce planned meetings of the Department of Defense Task Force on the Care, Management, and Transition of Recovering Wounded, Ill, and Injured Members of the Armed Forces. The Designated Federal Officer, at that time, may provide additional guidance on the submission of written statements that are in response to the stated agenda for the planned meeting in question.

Dated: November 15, 2012.
Aaron Siegel,
Alternate OSD Federal Register Liaison Officer, Department of Defense.

[FR Doc. 2012-28140 Filed 11-19-12; 8:45 am]

BILLING CODE 5001-06-P